NUCLEAR REGULATORY COMMISSION

Advisory Committee on Reactor Safeguards Advanced Reactor Subcommittee Workshop on Regulatory Challenges for Future Nuclear Power Plants; Notice of Meeting

The ACRS Subcommittee on Advanced Reactors will hold a meeting on June 4-5, 2001 in the NRC Auditorium in Two White Flint North, 11545 Rockville Pike, Rockville, Maryland.

The Subcommittee will discuss matters related to regulatory challenges for future nuclear power plants. The Subcommittee meeting will be conducted as a workshop, with presentations, panel discussions, and participation by the workshop attendees. The meeting schedule is as follows:

Monday, June 4, 2001—9 a.m. to 7 p.m.

1. Introduction—G. Apostolakis and T. Kress: 9 a.m.-9:15 a.m.

2. Keynote Address by Commissioner Nils Diaz: 9:15 a.m.-10 a.m.

Break—10 a.m.-10:15 a.m.

3. DOE Presentations

Overview and Introduction to Generation IV Initiative—W. Magwood, DOE: 10:15 a.m.-10:40 a.m.

Generation IV Goals and Roadmap Effort—R. Versluis, DOE: 10:40 a.m.-11 a.m.

Near-Term Deployment Efforts—T. Miller, DOE: 11 a.m.—11:25 a.m.

Generation IV Concepts—R. Versluis, DOE: 11:25 a.m.-11:40 a.m.

Next Steps Generation III+/IV—S. Johnson, DOE: 11:40 a.m.-12 p.m.

Lunch—12 p.m-1 p.m.

4. Generation IV Design Concepts

Pebble Bed Modular Reactor—J. Muntz, Exelon: 1 p.m.-1:45 p.m.

International Reactor Innovative and Secure—M. Carelli, Westinghouse: 1:45 p.m.-2:30 p.m.

General Atomic-Gas Turbine/Modular Helium Reactor—L. Parme, General Atomics: 2:30 p.m.-3:15 p.m.

Break—3:15 p.m.-3:30 p.m.

General Electric-Advanced Liquid Metal Reactor and ESBWR designs—C. Boardman, General Electric: 3:30 p.m.-4:15 p.m.

5. NRC Presentations

NRC Response to Commission Direction on Evaluation of NRC Licensing Infrastructure (NRR/RES/NMSS)—M. Gamberoni, NRC-NRR: 4:15 p.m.-5:15 p.m.

Planned RES Activities—A. Thadani, NRC-RES: 5:15 p.m.-6 p.m.

6. Panel Discussion on Industry and NRC Licensing Infrastructure Needed for Generation IV Reactors: 6 p.m.-7 p.m.

Panelists: A. Thadani, NRC, S. Johnson, DOE, J. Muntz, Exelon, M. Carelli, Westinghouse, L. Parme, General Atomics, C. Boardman, General Electric

Tuesday, June 5, 2001-8:30 a.m. to 6:45 p.m.

1. Introduction—G. Apostolakis and T. Kress: 8:30 a.m.-8:45 a.m.

2. NEI Advanced Reactors Initiatives—Presentation by R. Simard, NEI: 8:45 a.m.-9:30 a.m.

3. Technical Presentations: 9:30 a.m.-4 p.m.

Safety Goals for Future Nuclear Power Plants—N. Todreas, MIT: 9:30 a.m.-10:30 a.m.

Break—10:30 a.m.-10:45 a.m.

Future Reactor Licensing by Test—A. Kadak, MIT: 10:45 a.m.-11:45 a.m.

NERI Project on Risk-Informed Regulation—G. Davis, Westinghouse and M. Golay, MIT: 11:45 a.m.-12:45 p.m.

Lunch—12:45 p.m.-2 p.m.

Advanced Safety Concepts—C. Forsberg, ORNL: 2 p.m.-3 p.m.

Regulatory Framework for Future Nuclear Power Plants—A. Heymer, NEI: 3 p.m.-4 p.m.

Break—4 p.m.-4:15 p.m.

4. ACRS and Panel Discussion with Audience Participation The Most Important Regulatory Challenges for the Licensing of Future Nuclear Power Plants: 4:15 p.m.-6:30 p.m.

Panelists: N. Todreas, MIT, R. Barrett, NRR, E. Lyman, NCI, R. Simard, NEI

5. Conclusions—Apostolakis, Kress, et al: 6:30 p.m.-6:45 p.m.

The meeting schedule and scheduled speakers is subject to change as necessary. Further information regarding topics to be discussed, whether the meeting has been canceled or rescheduled, and the Chairman's ruling on requests for the opportunity to present oral statements and the time allotted therefor, can be obtained by contacting the cognizant ACRS staff engineer, Dr. Medhat M. El-Zeftawy (telephone 301-415-6889) between 7:30 a.m. and 4:15 p.m. (EDT). Persons planning to attend this meeting are urged to contact the above named individual one or two working days prior to the meeting to be advised of any potential changes to the agenda, etc., that may have occurred.

Dated: May 4, 2001.
Howard J. Larson,
Special Assistant, ACRS/ACNW.

[FR Doc. 01-11754 Filed 5-9-01; 8:45 am]

BILLING CODE 7590-01-P